NATIONAL SCIENCE FOUNDATION

Special Emphasis Panel in Electrical and Communications Systems; Notice of Meeting

In accordance with the Federal Advisory Committee Act (Pub. L. 92-463, as amended), the National Science Foundation announces the following meeting.

Name: Special Emphasis Panel in Electrical and Communications Systems (1196).

Date & Time: February 17, 2000; 8:30 AM-5:00 PM.

Place:Room 730, National Science Foundation, 4201 Wilson Boulevard, Arlington, VA.

Type of Meeting: Open.

Contact Persons: Dr. James W. Mink, Program Director, Electronics, Photonics, and Device Technologies (EPDT), Division of Electrical and Communications Systems, National Science Foundation, 4201 Wilson Blvd., Room 675, Arlington, VA 22230. Telephone: (703) 306-1339.

Purpose of Meeting: To provide advice and recommendations concerning future directions of the NSF programs in the areas of the Tether-Free World and Wireless Technology. The goal is to stimulate fundamental research that will enable broader application of the emerging tether-free environment.

Agenda: To review the current state of the art to establish base line discussions and to develop fundamental research objectives that will greatly expand wireless technology into a seamless environment for broad based data transmission, sensing and control systems applications.

Dated: January 13, 2000.
Karen J. York,
Committee Management Officer.

[FR Doc. 00-1239 Filed 1-18-00; 8:45 am]

BILLING CODE 7255-01-M